DEPARTMENT OF HEALTH AND HUMAN SERVICES

Administration for Community Living

Administration for Community Living; Agency Information Collection Activities: Proposed Collection; Public Comment Request; Protection and Advocacy for Traumatic Brain Injury (PATBI) Program Performance Report; Correction

AGENCY: Administration for Community Living, HHS.

ACTION: Notice of correction.

SUMMARY: The Administration for Community Living published a proposed collection of information document in the Federal Register on April 26, 2017. (82 FR 19245 and 19246) The Web page link where the proposed Protection and or Traumatic Brain Injury (PATBI) Program Performance Report (PPR) form could be found is no longer functional as of Thursday May 4, 2017, due to an update of the ACL.gov Web site.

FOR FURTHER INFORMATION CONTACT: Wilma Roberts at 202-795-7449 or Wilma.Roberts@acl.hhs.gov.

SUPPLEMENTARY INFORMATION:

Correction

For the remainder of the public comment period through May 26, 2017, the proposed Protection and or Traumatic Brain Injury (PATBI) Program Performance Report (PPR) form can be found at: https://acl.gov/NewsRoom/Index.aspx.

Dated: April 28, 2017.
Daniel P. Berger,
Acting Administrator and Assistant Secretary for Aging.

[FR Doc. 2017-09020 Filed 5-3-17; 8:45 am]

BILLING CODE 4154-01-P